DEPARTMENT OF VETERANS AFFAIRS

Joint Biomedical Laboratory Research and Development and Clinical Science Research and Development Services Scientific Merit Review Board; Notice of Meetings

The Department of Veterans Affairs (VA) gives notice under Public Law 92-463; Title 5 U.S.C. App. 2 (Federal Advisory Committee Act) that the subcommittees of the Joint Biomedical Laboratory Research and Development and Clinical Science Research and Development Services Scientific Merit Review Board (JBL/CS SMRB) will meet from 8 a.m. to 5 p.m. on the dates indicated below (unless otherwise listed):

Subcommittee | Date(s) | Location
Surgery | November 19, 2014 | Hampton Inn.
Mental Health and Behavioral Sciences-A | November 20, 2014 | Hampton Inn.
Hematology | November 21, 2014 | Westin Crystal City.
Infectious Diseases-B | November 21, 2014 | American Association of Airport Executives.
Cellular and Molecular Medicine | November 24, 2014 | Hampton Inn.
Infectious Diseases-A | November 24, 2014 | Westin Crystal City.
Endocrinology-A | December 1, 2014 | Crowne Plaza Old Town.
Clinical Trials-A | December 2, 2014 | Hampton Inn.
Epidemiology | December 2, 2014 | *VA Central Office.
Immunology-A | December 3, 2014 | Hampton Inn.
Neurobiology-C | December 3, 2014 | Crowne Plaza Old Town.
Endocrinology-B | December 4, 2014 | Crowne Plaza Old Town.
Nephrology | December 4, 2014 | Hampton Inn.
Oncology-E | December 4, 2014 | *VA Central Office (8:30 a.m. ET).
Oncology-A | December 4, 2014 | *VA Central Office (12:00 p.m. ET).
Special Emphasis on Genomics | December 4, 2014 | *VA Central Office.
Clinical Trials-B | December 5, 2014 | *VA Central Office.
Neurobiology-A | December 5, 2014 | Crowne Plaza Old Town.
Neurobiology-D | December 5, 2014 | Hampton Inn.
Oncology-D | December 5, 2014 | *VA Central Office (8:30 a.m. ET).
Oncology-C | December 5, 2014 | *VA Central Office (12:00 p.m. ET).
Pulmonary Medicine | December 5, 2014 | Crowne Plaza Old Town.
Aging and Clinical Geriatrics | December 8, 2014 | *VA Central Office.
Neurobiology-R | December 8, 2014 | *VA Central Office (12:00 p.m. ET).
Neurobiology-F | December 9, 2014 | *VA Central Office.
Oncology-B | December 9, 2014 | *VA Central Office (9:00 a.m. ET).
Cardiovascular Studies-A | December 11, 2014 | Westin Crystal City.
Gastroenterology | December 11, 2014 | Westin Crystal City.
Cardiovascular Studies-B | December 12, 2014 | Westin Crystal City.
Gulf War Research | December 12, 2014 | *VA Central Office.
Neurobiology-B | December 12, 2014 | US Access Board.
Neurobiology-E | December 12, 2014 | Hampton Inn.
JBL/CS SMRB | December 16, 2014 | *VA Central Office (3:00 p.m. ET).
Eligibility | January 16, 2015 | Hampton Inn.

The addresses of the meeting sites are:

American Association of Airport Executives, 601 Madison Street, 3rd Floor, Alexandria, VA

Crowne Plaza Old Town, 901 N. Fairfax Street, Alexandria, VA

Hampton Inn, 1729 H Street NW., Washington, DC

US Access Board, 1331 F Street NW., Suite 800, Washington, DC

Westin Crystal City, 1800 Jefferson Davis Highway, Arlington, VA

VA Central Office, 131 M Street NE., Washington, DC

*Teleconference.

The purpose of the subcommittees is to provide advice on the scientific quality, budget, safety and mission relevance of investigator-initiated research proposals submitted for VA merit review consideration. Proposals submitted for review involve a wide range of medical specialties within the general areas of biomedical, behavioral and clinical science research.

The subcommittee meetings will be closed to the public for the review, discussion, and evaluation of initial and renewal research proposals. However, the JBL/CS SMRG teleconference meeting will be open to the public. Members of the public who wish to attend the open JBL/CS SMRB teleconference may dial 1-800-767-1750, participant code 95562. Members of the public who wish to make a statement at the JBL/CS SMRB meeting must notify Dr. Alex Chiu via email at alex.chiu@va.gov by December 10, 2014.

The closed subcommittee meetings involve discussion, examination, and reference to staff and consultant critiques of research proposals. Discussions will deal with scientific merit of each proposal and qualifications of personnel conducting the studies, the disclosure of which would constitute a clearly unwarranted invasion of personal privacy. Additionally, premature disclosure of research information could significantly frustrate implementation of proposed agency action regarding the research proposals. As provided by subsection 10(d) of Public Law 92-463, as amended by Public Law 94-409, closing the subcommittee meetings is in accordance with Title 5 U.S.C. 552b(c) (6) and (9)(B).

Those who would like to obtain a copy of the minutes from the closed subcommittee meetings and rosters of the subcommittee members should contact Alex Chiu, Ph.D., Manager, Merit Review Program (10P9B), Department of Veterans Affairs, 810 Vermont Avenue NW., Washington, DC 20420, at (202) 443-5672 or email at alex.chiu@va.gov.

Dated: September 24, 2014.
Rebecca Schiller,
Advisory Committee Management Officer.

[FR Doc. 2014-23143 Filed 9-29-14; 8:45 am]

BILLING CODE 8320-01-P